DEPARTMENT OF ENERGY

Notice of Orders Issued Under Section 3 of the Natural Gas Act During August 2019

| FE Docket Nos.
CANNAT ENERGY INC | 19-90-NG
CERTARUS (USA) LTD | 18-88-NG
SEVEN GENERATIONS ENERGY (US) CORP | 19-95-NG
NEW WORLD GLOBAL, LLC | 19-71-NG
FREEPORT LNG DEVELOPMENT, L.P | 19-61-LNG
CAMERON LNG, LLC | 19-62-LNG

AGENCY: Office of Fossil Energy, Department of Energy.

ACTION: Notice of orders.

SUMMARY: The Office of Fossil Energy (FE) of the Department of Energy gives notice that during August 2019, it issued orders granting authority to import and export natural gas, to export previously imported liquefied natural gas (LNG), and vacating authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on September 30, 2019.
Amy Sweeney,
Director, Office of Regulation, Analysis, and Engagement, Office of Oil and Natural Gas.

Appendix

DOE/FE Orders Granting Import/Export Authorizations
4420 | 08/01/19 | 19-90-NG | Cannat Energy Inc | Order 4420 granting blanket authority to import/export natural gas from/to Canada.
4221-A | 08/16/19 | 18-88-NG | Certarus (USA) Ltd | Order 4221—A vacating authority to import natural gas from Canada, and to export natural gas to Canada/Mexico.
4421 | 08/16/19 | 19-95-NG | Seven Generations Energy (US) Corp | Order 4421 granting blanket authority to import natural gas from Canada.
4422 | 08/16/19 | 19-71-NG | New World Global, LLC | Order 4422 granting blanket authority to import natural gas from Canada, and to export natural gas to Mexico.
4424 | 08/21/19 | 19-61-LNG | Freeport LNG Development, L.P | Order 4424 granting blanket authority to export previously imported LNG by vessel to Free-trade Agreement Nations and Non-Free Trade Agreement Nations.
4425 | 08/21/19 | 19-62-LNG | Cameron LNG, LLC | Order 4425 granting blanket authority to export previously imported LNG by vessel to Free-trade Agreement Nations and Non-Free Trade Agreement Nations.

[FR Doc. 2019-21551 Filed 10-2-19; 8:45 am]

BILLING CODE 6450-01-P